DEPARTMENT OF HOMELAND SECURITY

[Docket No. DHS-2021-0015]

Public Perceptions of Emerging Technology

AGENCY: Science and Technology Directorate (S&T), Department of Homeland Security (DHS).

ACTION: 30-Day Notice of Information Collection; New request for comment, 1640-NEW.

SUMMARY: DHS S&T will submit the following Information Collection Request (ICR) to the Office of Management and Budget (OMB) for review and clearance in accordance with the Paperwork Reduction Act of 1995. The survey will collect information from the public regarding applications of artificial intelligence (AI), including facial recognition. DHS has already used or piloted AI-based technologies in several of its key functions, including customs and border protection, transportation security, and investigations. However, AI in general and facial recognition in particular are not without public controversy, including concerns about bias, security, and privacy. Therefore, understanding how the public perceives these technologies, and then designing and deploying them in a manner responsive to the public's concerns, is critical in gaining public support for DHS's use of these technologies.

DATES: Comments are encouraged and accepted until December 6, 2021.

ADDRESSES: Interested persons are invited to submit written comments on this proposed information collection to the Office of Information and Regulatory Affairs, Office of Management and Budget. Comments, identified by docket number DHS-2021-0015, should be submitted via the Federal eRulemaking Portal: https://www.regulations.gov. The comments submitted via this method are visible to the Office of Management and Budget and comply with the requirements of 5 CFR 1320.12(c). Please follow the instructions on the site for submitting comments.

FOR FURTHER INFORMATION CONTACT: Program Manager: Kathleen Deloughery, kathleen.deloughery@hq.dhs.gov or (202) 254-6189 (Not a toll free number).

SUPPLEMENTARY INFORMATION: DHS, in accordance with the Paperwork Reduction Act (PRA), 44 U.S.C. 3501 et seq., provides the general public and Federal agencies with an opportunity to comment on proposed, revised, and continuing collections of information. DHS is soliciting comments on the proposed information collection request (ICR) that is described below. DHS is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology? Please note that written comments received in response to this notice will be considered public records.

Agency: Department of Homeland Security (DHS).

Title: Public Perceptions Of Emerging Technologies.

OMB Number: Insert.

Frequency: One Per Request.

Affected Public: Individuals And Households.

Number of Respondents: 3000.

Estimated Time per Respondent: 12 Minutes.

Total Burden Hours: 600.

Dated: March 22, 2021.
Gregg Piermarini,
DHS S&T Chief Information Officer.

Editorial note: This document was received for publication by the Office of the Federal Register on November 2, 2021.

[FR Doc. 2021-24247 Filed 11-4-21; 8:45 am]

BILLING CODE 9112-FL-P